DEPARTMENT OF COMMERCE

National Institute of Standards and Technology

Request for Nominations of Members To Serve on the National Advisory Committee on Windstorm Impact Reduction

AGENCY: National Institute of Standards and Technology, Department of Commerce.

ACTION: Notice.

SUMMARY: The National Institute of Standards and Technology (NIST) invites and requests nomination of individuals for appointment to the National Advisory Committee on Windstorm Impact Reduction (Committee). This is a new Federal Advisory Committee established pursuant to the National Windstorm Impact Reduction Act Reauthorization of 2015 (Pub. L. 114-52). NIST will consider nominations received in response to this notice for appointment to the Committee.

DATES: Please submit nominations on or before Friday, August 19, 2016.

ADDRESSES: Please submit nominations to Tina Faecke, Administrative Officer, National Windstorm Impact Reduction Program, National Institute of Standards and Technology, 100 Bureau Drive, Mail Stop 8630, Gaithersburg, MD 20899-8630. Nominations may also be submitted via FAX to 301-975-5433 or email at tina.faecke@nist.gov.

Additional information regarding the Committee, including its charter, may be found on the NWIRP electronic home page at: http://www.nist.gov/el/nwirp/.

FOR FURTHER INFORMATION CONTACT: Dr. Marc Levitan, Acting Director, National Windstorm Impact Reduction Program, National Institute of Standards and Technology, 100 Bureau Drive, Mail Stop 8611, Gaithersburg, MD 20899-8611, telephone 301-975-5340, fax 301-975-5433; or via email at marc.levitan@nist.gov.

SUPPLEMENTARY INFORMATION: Committee Information: The Committee was established in accordance with the requirements of the National Windstorm Impact Reduction Act of 2004, Public Law 108-360, Title II, as amended by the National Windstorm Impact Reduction Act Reauthorization of 2015, Public Law 114-52, codified at 42 U.S.C. 15704, and the Federal Advisory Committee Act, as amended, 5 U.S.C. App.

Objectives and Duties

1. The Committee will assess trends and developments in the natural, engineering, and social sciences and practices of windstorm impact mitigation, priorities of the National Windstorm Impact Reduction Program's (Program) Strategic Plan, coordination of the Program, effectiveness of the Program in meeting its purposes under section 204 (42 U.S.C. 15703) of the National Windstorm Impact Reduction Act of 2004, as amended, (Pub. L. 114-52); and, any revisions to the Program which may be necessary.

2. The Committee functions solely as an advisory body, in accordance with the provisions of the Federal Advisory Committee Act.

3. The Committee shall report to the Director of NIST.

4. At least once every two years, the Committee shall report to the Director of NIST on its findings of the assessments described above and its recommendations for ways to improve the Program.

Membership

1. The Committee will consist of not fewer than 7 nor more than 15 members. Members shall be selected on the basis of established records of distinguished service in their professional community and their knowledge of issues affecting the Program. Members shall reflect the wide diversity of technical disciplines, competencies, and communities involved in windstorm impact reduction. Members who are qualified to provide advice on windstorm impact reduction and represent related scientific, architectural, and engineering disciplines, will be drawn from communities having an interest in the Program, including, but not limited to, representatives of research and academic institutions, industry standards development organizations, emergency management agencies, State and local government, and business communities including the insurance industry.

2. The Director of NIST shall appoint the members of the Committee, and they will be selected on a clear, standardized basis, in accordance with applicable Department of Commerce guidance.

3. No committee member may be an “employee” as defined in subparagraphs (A) through (F) of section 7342(a)(1) of title 5 of the United States Code.

Miscellaneous

1. Members of the Committee will not be compensated for their services, but may, upon request, be allowed travel and per diem expenses in accordance with 5 U.S.C. 5701 et seq., while attending meetings of the Committee or of its subcommittees, or while otherwise performing duties at the request of the chairperson, while away from their homes or a regular place of business.

2. Members of the Committee shall serve as Special Government Employees and are required to file an annual Executive Branch Confidential Financial Disclosure Report.

3. The Committee shall meet at least once per year. Additional meetings may be called whenever the Director of NIST or the Committee Chair requests a meeting.

4. The Committee shall terminate on September 30, 2017.

Nomination Information

1. Nominations are sought from industry and other communities having an interest in the Program, such as, but not limited to, research and academic institutions, industry standards development organizations, emergency management agencies, state and local government, and business communities, including the insurance industry, who are qualified to provide advice on windstorm impact mitigation and represent related scientific, architectural, and engineering disciplines.

2. Nominees should have established records of distinguished service. The field of expertise that the candidate represents should be specified in the nomination letter. Nominations for a particular field should come from organizations or individuals within that field. A summary of the candidate's qualifications should be included with the nomination, including (where applicable) current or former service on federal advisory boards and federal employment. In addition, each nomination letter should state that the person agrees to the nomination, acknowledges the responsibilities of serving on the Committee, and will actively participate in good faith in the tasks of the Committee.

3. The Department of Commerce is committed to equal opportunity in the workplace and seeks a broad-based and diverse Committee membership.

Kevin Kimball,
Chief of Staff.

[FR Doc. 2016-16373 Filed 7-11-16; 8:45 am]

BILLING CODE 3510-35-P